DEPARTMENT OF THE INTERIOR

Minerals Management Service

Alternative Energy and Alternate Use Final Programmatic Environmental Impact Statement

AGENCY: Minerals Management Service (MMS), Interior.

ACTION: Notice of Availability (NOA) of the Final Programmatic Environmental Impact Statement (EIS).

SUMMARY: The MMS has prepared a final programmatic EIS in support of the establishment of a program for authorizing alternative energy and alternate use activities on the Outer Continental Shelf (OCS), as authorized by Section 388 of the Energy Policy Act of 2005 (EPAct), and codified in subsection 8(p) of the Outer Continental Shelf Lands Act (OCSLA). Pursuant to the regulations implementing the National Environmental Policy Act (NEPA), the MMS is announcing the availability of this final programmatic EIS. As part of its efforts to develop a regulatory program for alternative energy and alternate use activities, this final programmatic EIS examines the potential environmental effects of the program on the OCS and identifies policies and best management practices that may be adopted for the program. Several alternatives available to the MMS for implementing an alternative energy and alternate use program on the OCS are analyzed in this final programmatic EIS, including the “no action” alternative.

The MMS intends to prepare a separate NEPA analysis, tiered from this EIS, to evaluate the environmental impacts of the proposed rule for alternative energy and alternate use activities on the OCS. Further, separate lease sale, activity-specific, and proposal-specific NEPA analyses will be prepared as appropriate.

Authority: The NOA is published pursuant to the regulations (40 CFR 1506.6) implementing the provisions of the National Environmental Policy Act (NEPA) of 1969 as amended (42 U.S.C. 4321 et seq. (1988)).

SUPPLEMENTARY INFORMATION: Section 388 of the EPAct, granted the Secretary of the U.S. Department of the Interior (Secretary) discretionary authority to issue leases, easements, or rights-of-way for activities on the OCS that produce or support production, transportation, or transmission of energy from sources other than oil and gas, and are not otherwise authorized by other applicable law. The Secretary delegated this authority to the MMS. Examples of the general types of alternative energy project activities that MMS has the discretion to authorize may include, but are not limited to: Wind energy, wave energy, ocean current energy, solar energy, and hydrogen production.

The MMS has also been delegated discretionary authority to issue leases, easements, or rights-of-way for other OCS project activities that make alternate use of existing OCS facilities for “energy-related purposes or for other authorized marine-related purposes,” to the extent such activities are not otherwise authorized by other applicable law. Such activities may include, but are not limited to: Offshore aquaculture, research, education, recreation, and support for offshore operations and facilities.

This programmatic EIS analyzes the environmental impacts from potential activities that may arise from the establishment of an alternative energy and alternate use program on the OCS in the reasonably foreseeable future, defined in the EIS as 5-7 years. The MMS chose to prepare this programmatic EIS to assist its efforts to develop a comprehensive program and to complete the proposed rule. The programmatic EIS analyzes the potential environmental impacts that could result from the development of alternative energy and alternative use projects on the OCS and identifies potential mitigation measures. As such, the programmatic EIS process:

(1) Provides for public input, through scoping meetings, hearings, and written comments, concerning the scope of national issues associated with offshore alternative energy and alternate use activities;

(2) Identifies, defines, and assesses generic environmental impacts associated with potential offshore alternative energy and alternate use activities to increase the agency understanding of the environmental consequences of future actions;

(3) Evaluates and proposes policies and best management practices that may be adopted for any rulemaking by MMS; and,

(4) Establishes a foundation for future NEPA analyses required for the implementation of the alternative energy and alternate use program.

The preferred alternative of this final programmatic EIS combines elements of the proposed action and the “case-by-case” alternative. This combination provides MMS flexibility to issue and manage leases, easements, or rights-of-way on the OCS for alternative energy and alternate use activities during the rulemaking process. Areas of the OCS that are assessed in this programmatic EIS are limited to those not expressly excluded under Section 388 of the EPAct, such as any areas on the OCS within the exterior boundaries of any unit of the National Park System, National Wildlife Refuge System, National Marine Sanctuary System, or any National Monument.

EIS Availability: To obtain a single printed or CD-ROM copy of the final programmatic EIS, you may contact the Minerals Management Service, Environmental Assessment Branch (MS 4042), 381 Elden Street, Herndon, Virginia 20170. An electronic copy of the final programmatic EIS is available at the MMS's EIS Web site at: ocsenergy.anl.gov.

FOR FURTHER INFORMATION CONTACT: Minerals Management Service, Mr. James F. Bennett, Environmental Division, 381 Elden Street, Herndon, Virginia 20170, (703) 787-1660.

Dated: October 25, 2007.
Robert P. LaBelle,
Acting Associate Director for Offshore Minerals Management.

[FR Doc. E7-21792 Filed 11-5-07; 8:45 am]

BILLING CODE 4310-MR-P